ENVIRONMENTAL PROTECTION AGENCY

[EPA-HQ-OPP-2023-0070; FRL-10841-10-OCSPP]

Pesticide Product Registration; Receipt of Applications for New Active Ingredients October 2023

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before December 28, 2023.

ADDRESSES: Submit your comments, identified by docket identification (ID) number EPA-HQ-OPP-2023-0070, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Anne Overstreet, Biopesticides and Pollution Prevention Division (BPPD) (7511M), main telephone number: (202) 566-2425, email address: BPPDFRNotices@epa.gov; or Charles Smith, Registration Division (RD) (7505T), main telephone number: (202) 566-2427, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

New Active Ingredients

File Symbols: 70506-AGN and 70506-AGR. Docket ID number: EPA-HQ-OPP-2023-0459. Applicant: UPL NA, Inc., 630 Freedom Business Center, Suite 402, King of Prussia, PA 19406. Product names: UPL Glufosinate-P-ammonium Technical and KFD-581-01 Herbicide Product. Active ingredient: Herbicide—L-Glufosinate Ammonium at 92.46% (UPL Glufosinate-P-ammonium Technical) and 23.86% (KFD-581-01 Herbicide Product). Proposed uses: Almond, hulls; beet, sugar, molasses; beet, sugar, roots; bushberry subgroup 13B; canola, meal; canola, seed; cattle, fat; cattle, meat; cattle, meat byproducts; corn, field forage; corn, field, grain; corn, field, stover; corn, sweet, forage; corn, sweet, kernels plus cob with husks removed; corn, sweet, stover; cotton, gin byproducts; cotton, undelinted seed; egg; citrus fruit, crop group 10-10; pome fruit, crop group 11-10; stone fruit, crop group 12-12; goat, fat; goat, meat; goat, meat byproducts; grain aspirated fractions; grape; hog, fat; hog, meat; hog, meat byproducts; horse, fat; horse, meat; horse, meat byproducts; milk; tree nut, crop group 14-12; olive; potato; potato, chips; potato granules/flakes; poultry, fat; poultry, meat; poultry, meat byproducts; sheep, fat; sheep, meat; sheep, meat byproducts; soybean; soybean, hulls. Contact: RD.

File Symbols: 7969-UOI, 7969-UOO, and 7969-LNN. Docket ID number: EPA-HQ-OPP-2020-0250. Applicant: BASF Corporation Agricultural Solutions, 26 Davis Drive; P.O. Box 13528, Research Triangle Park, NC 27709. Product names: L-Glufosinate-ammonium Technical Product, L-Glufosinate-ammonium Manufacturing-Use Product and BASF L-Glufosinate-ammonium 211. Active ingredient: Herbicide—L-Glufosinate-ammonium at 89.6% L-Glufosinate-ammonium Technical Product); 50% (L-Glufosinate-ammonium Manufacturing-Use Product); and 18.7% (BASF L-Glufosinate-ammonium 211). Proposed uses: Canola; corn, field; corn, sweet; cotton; and soybean. Contact: RD.

File Symbol: 92643-R. Docket ID number: EPA-HQ-OPP-2023-0542. Applicant: Verily Life Sciences, LLC. 269 East Grand Avenue, South San Francisco, CA 94080. Product name: DAB Males. Active ingredient: Wolbachia pipientis wAlbB strain contained in live adult Aedes aegypti males. Proposed use: Microbial Insecticide. Contact: BPPD.

Authority: 7 U.S.C. 136 et seq.

Dated: November 13, 2023.
Delores Barber,
Director, Information Technology and Resources Management Division, Office of Program Support.

[FR Doc. 2023-26182 Filed 11-27-23; 8:45 am]

BILLING CODE 6560-50-P